DEPARTMENT OF TRANSPORTATION

Federal Aviation Administration

14 CFR Part 71

[Docket No. FAA-2013-0080; Airspace Docket No. 12-AWA-6]

RIN 2120-AA66

Amendment of Class B Airspace Description; Tampa, FL

AGENCY: Federal Aviation Administration (FAA), DOT.

ACTION: Final rule, technical amendment.

SUMMARY: This action amends the description of the Tampa International Airport, FL, Class B airspace area by changing the references for defining the centerpoint of the airspace from the “airport surveillance radar (ASR) antenna” to “Point of Origin.” In addition, the description is edited throughout to improve clarity. These changes are editorial only and do not alter the current charted boundaries or altitudes or the ATC procedures for the Tampa Class B airspace area.

DATES: Effective date: April 8, 2013. The Director of the Federal Register approves this incorporation by reference action under 1 CFR part 51, subject to the annual revision of FAA Order 7400.9 and publication of conforming amendments.

FOR FURTHER INFORMATION CONTACT: Paul Gallant, Airspace Policy and ATC Procedures Group, Office of Mission Airspace Services, Federal Aviation Administration, 800 Independence Avenue SW., Washington, DC 20591; telephone: (202) 267-8783.

SUPPLEMENTARY INFORMATION:

Background

The Tampa Class B airspace area was established as a “Terminal Control Area (TCA)” on September 20, 1990 (55 FR 19226, May 8, 1990). In 1993, as part of the Airspace Reclassification Final Rule (56 FR 65638, December 17, 1991), the term “terminal control area” was replaced by “Class B airspace area.” Because there was no VHF Omnidirectional Range (VOR) navigation aid located on the Tampa International Airport to serve as a reference for describing the airspace, the area was designed using the latitude/longitude position of the ASR antenna as the centerpoint. In 2012, the ASR antenna was moved to another location on the airport. So that there will be no change to the existing charted boundaries of the Tampa Class B airspace area, the FAA is retaining the same latitude/longitude of the “old” ASR antenna location as the centerpoint for the Class B airspace. To accomplish this, all references to the ASR in the Tampa Class B airspace description (as published in FAA Order 7400.9) are replaced by “Point of Origin.” This practice is consistent with other Class B airspace locations that do not have a suitable navigation aid located on the airport.

The current Tampa Class B description also refers to the LOC/DME antenna. However, the FAA's Digital Navigation Products Team reviewed the charted boundaries and determined that none of the boundaries are defined from the LOC/DME antenna position. Therefore, those references are unnecessary and are removed from the description. Additionally, the description has been edited to eliminate confusing wording and improve clarity.

The Rule

The FAA is amending Title 14 Code of Federal Regulations (14 CFR) part 71 by editing the description of the Tampa. FL, Class B airspace (as published in FAA Order 7400.9) to remove references to the “ASR antenna” and replace them with “Point of Origin” for defining the centerpoint of the airspace. The Point of Origin uses the same latitude/longitude of the “old” ASR antenna location. The FAA is taking this action so that the currently charted boundaries of the Class B airspace area are not affected by the recent relocation of the ASR antenna to a new position on the airport. The Class B airspace description is also edited to remove unnecessary references to the LOC/DME antenna and to improve the clarity of the description.

Because this action is a minor editorial change that does not alter the currently charted boundaries or altitudes or ATC procedures for the Tampa International Airport, I find that notice and public procedure under 5 U.S.C 553(b) are unnecessary and contrary to the public interest.

Class B airspace areas are published in paragraph 3000 of FAA Order 7400.9W dated August 8, 2012, and effective September 15, 2012, which is incorporated by reference in 14 CFR 71.1. The Class B airspace area listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it makes editorial corrections to an existing Class B airspace description to maintain accuracy.

Environmental Review

The FAA has determined that this action qualifies for categorical exclusion under the National Environmental Policy Act in accordance with 311a, FAA Order 1050.1E, “Environmental Impacts: Policies and Procedures.” This airspace action is an editorial change only and is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9W, Airspace Designations and Reporting Points, signed August 8, 2012, and effective September 15, 2012, is amended as follows:

Paragraph 3000 Subpart B—Class B Airspace.

* * * * *

ASO FL B Tampa, FL [Amended]

Tampa International Airport (Primary Airport)

(Lat. 27°58′32″ N., long. 82°32′00″ W.)

Point of Origin

(Lat. 27°59′15″ N., long. 82°32′40″ W.)

Boundaries.

Area A. That airspace extending upward from the surface to and including 10,000 feet MSL bounded by an area beginning at lat. 27°54′29″ N., long. 82°30′56″ W.; then clockwise along the 5-mile radius of the Point of Origin to lat. 27°57′43″ N., long. 82°27′18″ W.; then southwest to the point of beginning.

Area B. That airspace extending upward from 1,200 feet MSL to and including 10,000 feet MSL beginning at the intersection of the Anna Maria Island, FL, shoreline and the 30-mile radius of the Point of Origin; then north along the shoreline to lat. 27°40′47″ N., long. 82°44′14″ W.; then northeast to lat. 27°42′15″ N., long. 82°40′45″ W. (the end of the Skyway Bridge); then north along the shoreline to the 10-mile radius of the Point of Origin; then clockwise along the 10-mile radius to U.S. Highway 301; then south along U.S. Highway 301 to Interstate 75; then south along Interstate 75 to the 10-mile arc of the Sarasota, FL, Class C airspace area; then counterclockwise along the Sarasota Class C airspace area 10-mile arc to the 30-mile radius of the Point of Origin; then clockwise along the 30-mile radius to the point of beginning.

Area C. That airspace extending upward from 3,000 feet MSL up to and including 10,000 feet MSL bounded by a line beginning at the shoreline (lat. 28°19′48″ N., long. 82°43′37″ W.); then east to the intersection of Highway 19 and Highway 52; then east along Highway 52 to Interstate 75; then south along the eastern edge of Interstate 75 to Highway 54; then east along Highway 54 to Highway 39-301 at Zephyrhills, FL; then south on Highway 39 to Highway 60; then west on Highway 60 to lat. 27°56′17″ N., long. 82°11′05″ W.; then south to and along the railroad to Parrish, FL; then southwest along Highway 301 to the 10-mile DME arc of the Sarasota Class C airspace area; then counterclockwise along the Sarasota Class C airspace area 10-mile DME arc to Interstate 75; then north along Interstate 75 to the 10-mile radius of the Point of Origin; then counterclockwise along 10-mile radius of the Point of Origin to the shoreline; then south along the shoreline to lat. 27°42′15″ N., long. 82°40′45″ W.; then direct to the shoreline at lat. 27°40′47″ N., long. 82°44′14″ W.; then north along the shoreline to the point of beginning.

Area D. That airspace extending upward from 6,000 feet MSL to and including 10,000 feet MSL beginning at the intersection of the Anna Maria Island, FL, shoreline and the 30-mile radius of the Point of Origin; then clockwise along the 30-mile radius of the Point of Origin to long. 83°00′00″ W.; then north along long. 83°00′00″ W. to the 30-mile radius of the Point of Origin; then clockwise along the 30-mile radius of the Point of Origin to Dade City, FL; then south on Highway 39-301 to Highway 54 at Zephyrhills, FL; then west on Highway 54 to Interstate 75; then north on the eastern edge of Interstate 75 to Highway 52; then west on Highway 52 to the intersection of Highway 52 and Highway 19 at Hudson, FL; then due west to and south along the shoreline to lat. 27°40′47″ N., long. 82°44′14″ W.; then south along the shoreline to the point of beginning; and that airspace beginning at the intersection of Highway 301 and the Sarasota Class C airspace area 10-mile DME arc; then northeast along Highway 301 to Parrish, FL; then northeast along the railroad to lat. 27°56′17″ N., long. 82°11′05″ W.; then east along Highway 60 to the intersection of Highway 60 and Highway 39; then south along Highway 39 to the 30-mile radius of the Point of Origin; then clockwise along the 30-mile radius of the Point of Origin to the Sarasota, FL, Class C airspace area 10-mile DME arc; then counterclockwise along the Sarasota Class C airspace area 10-mile DME arc to the point of beginning.

Issued in Washington, DC, on February 21, 2013.
Gary A. Norek,
Manager, Airspace Policy and ATC Procedures Group.

[FR Doc. 2013-04829 Filed 3-6-13; 8:45 am]

BILLING CODE 4910-13-P